DEPARTMENT OF THE INTERIOR

National Park Service

[NPS-WASO-NAGPRA-22814; PPWOCRADN0-PCU00RP14.R50000]

Notice of Inventory Completion: Arkansas Archeological Survey, Fayetteville, AR

AGENCY: National Park Service, Interior.

ACTION: Notice.

SUMMARY: The Arkansas Archeological Survey has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Arkansas Archeological Survey. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Arkansas Archeological Survey at the address in this notice by March 27, 2017.

ADDRESSES: Dr. George Sabo, Director, Arkansas Archeological Survey, 2475 North Hatch Avenue, Fayetteville, AR 72704, telephone (479) 575-3556.

SUPPLEMENTARY INFORMATION: Notice is here given in accordance with the Native American Graves Protection and Repatriation Act (NAGPRA), 25 U.S.C. 3003, of the completion of an inventory of human remains and associated funerary objects under the control of the Arkansas Archeological Survey, Fayetteville, AR. The human remains and associated funerary objects were removed from multiple counties in the state of Arkansas.

This notice is published as part of the National Park Service's administrative responsibilities under NAGPRA, 25 U.S.C. 3003(d) (3). The determinations in this notice are the sole responsibility of the museum, institution, or Federal agency that has control of the Native American human remains and associated funerary objects. The National Park Service is not responsible for the determinations in this notice.

Consultation

A detailed assessment of the human remains was made by the Arkansas Archeological Survey professional staff in consultation with representatives of the Caddo Nation of Oklahoma, The Osage Nation (previously listed as the Osage Tribe), and The Quapaw Tribe of Indians. These human remains were inventoried and documented by physical anthropologists at the University of Arkansas.

History and Description of the Remains

In 1992, human remains representing, at minimum, one individual were recovered from the Massey Place site (3AR1) in Arkansas County, AR. No known individual was identified. The two associated funerary objects include two shell tempered bowls (catalog #2014-350-1, 2). Diagnostic artifacts found at the Massey Place site (3AR1) indicate that these human remains were probably buried during the Mississippi Period (A.D. 900-1500).

In 1980, human remains representing, at minimum, one individual were recovered from the Menard Hodges site (3AR4) in Arkansas County, AR. No known individual was identified. No associated funerary objects were present. Diagnostic artifacts found at the Menard Hodges site (3AR4) indicate that these human remains were probably buried during the Menard Complex (A.D. 1500-1700).

At an unknown date, human remains representing, at minimum, one individual were recovered from the Menard Hodges site (3AR4) in Arkansas County, AR. No known individual was identified. No associated funerary objects were present. Diagnostic artifacts found at the Menard Hodges site (3AR4) indicate that these human remains were probably buried during the Menard Complex (A.D. 1500-1700).

In 1974, human remains representing, at minimum, one individual were recovered from the Moore Place site (3AR12) in Arkansas County, AR. No known individual was identified. No associated funerary objects were present. Diagnostic artifacts found at the Moore Place site (3AR12) indicate that these human remains were probably buried during the Kent Phase (A.D. 1350-1600).

In 1971, human remains representing, at minimum, one individual were recovered from the Old River Landing site (3AR14) in Arkansas County, AR. No known individual was identified. No associated funerary objects were present. Diagnostic artifacts found at the Old River Landing site (3AR14) indicate that these human remains were probably buried during the Mississippi Period (A.D. 950-1541).

In 1996, human remains representing, at minimum, one individual were recovered from the Wallace site (3AR25) in Arkansas County, AR. No known individual was identified. No associated funerary objects were present. Diagnostic artifacts found at the Wallace site (3AR25) indicate that these human remains were probably buried during the Mississippi Period (A.D. 950-1541).

At an unknown date, human remains representing, at minimum, one individual were recovered from the Roland Mound site (3AR30) in Arkansas County, AR. These human remains were donated to the Arkansas Archeological Survey in 1977. No known individual was identified. No associated funerary objects were present. Diagnostic artifacts found at the Roland Mound site (3AR30) indicate that the human remains were probably buried during either the Baytown Period (A.D. 400-700) or Coles Creek Period (A.D. 700-1000).

In 1968, human remains representing, at minimum, one individual were recovered from the Baker Brothers site (3AR45) in Arkansas County, AR. No known individual was identified. No associated funerary objects were present. Diagnostic artifacts found at the Baker Brothers site (3AR45) indicate that these human remains were probably buried during the Baytown Period (A.D. 400-700).

At an unknown date, human remains representing, at minimum, one individual were recovered from the Gibbens site (3AR48) in Arkansas County, AR. These human remains were donated to the Arkansas Archeological Survey in 1975. No known individual was identified. No associated funerary objects were present. Diagnostic artifacts found at the Gibbens site (3AR48) indicate that these human remains were probably buried during the late Woodland Period (650 B.C.-A.D. 950).

At an unknown date, human remains representing, at minimum, six individuals were recovered from the Gibbens site (3AR48) in Arkansas County, AR. No known individuals were identified. No associated funerary objects were present. Diagnostic artifacts found at the Gibbens site (3AR48) indicate that the human remains were probably buried during the late Woodland Period (650 B.C.-A.D. 950).

In 1978, human remains representing, at minimum, one individual were recovered from the Reback site (3AR66) in Arkansas County, AR. No known individual was identified. No associated funerary objects were present. Diagnostic artifacts found at the Reback site (3AR66) indicate that the human remains were probably buried during the Woodland Period (650 B.C.-A.D. 950).

In 1979, human remains representing, at minimum, two individuals were recovered from the Rounsaville site (3AR73) in Arkansas County, AR. No known individuals were identified. No associated funerary objects were present. Diagnostic artifacts found at the Rounsaville site (3AR73) indicate that the human remains were probably buried during the Woodland Period (650 B.C.-A.D. 950).

At an unknown date, human remains representing, at minimum, one individual were recovered at the Starr site (3CY449) in Clay County, AR. These human remains were donated to the Arkansas Archeological Survey in 1996. No known individual was identified. No associated funerary objects were present. Diagnostic artifacts found at the Starr site (3CY449) indicate that these human remains were probably buried during the Woodland Period (650 B.C.-A.D. 900) or Mississippi Period (A.D. 950-1541).

In 2008, human remains representing, at minimum, one individual were recovered from the Point Remove site (3CN4) in Conway County, AR. No known individual was identified. No associated funerary objects were present. Diagnostic artifacts found at the Point Remove Mound site (3CN4) indicate that these human remains were probably buried during the Prehistoric Period (11,650 B.C.-A.D. 1541).

In 1974, human remains representing, at minimum, one individual were recovered from the Betty Roach site (3CG4) in Craighead County, AR. No known individual was identified. No associated funerary objects were present. Diagnostic artifacts found at the Betty Roach site (3CG4) indicate that these human remains were probably buried during the Late Archaic Period (3000-650 B.C.).

In 1976, human remains representing, at minimum, one individual were recovered from the McDuffee site (3CG21) in Craighead County, AR. No known individual was identified. No associated funerary objects were present. Diagnostic artifacts found at the McDuffee site (3CG21) indicate that these human remains were probably buried during the Prehistoric Period (11,650 B.C.-A.D. 1541).

In 1968, human remains representing, at minimum, one individual were recovered from the Weist site (3CG37) in Craighead County, AR. No known individual was identified. No associated funerary objects were present. Diagnostic artifacts found at the Weist site (3CG37) indicate that these human remains were probably buried during the Late Archaic Period (3000-650 B.C.).

In 1969, human remains representing, at minimum, one individual were recovered from the Old Town Ridge site (3CG41) in Craighead County, AR. No known individual was identified. No associated funerary objects were present. Diagnostic artifacts found at the Old Town Ridge site (3CG41) indicate that these human remains were probably buried during the Mississippi Period (A.D. 900-1541).

In 1979, human remains representing, at minimum, one individual were recovered from the Frierson #4 site (3CG56) in Craighead County, AR. No known individual was identified. No associated funerary objects were present. Diagnostic artifacts found at the Frierson #4 site (3CG56) indicate that these human remains were probably buried during the Woodland Period (650 B.C-A.D. 950).

In 1968, human remains representing, at minimum, one individual were recovered from the Dunkerson site (3CG67) in Craighead County, AR. No known individual was identified. No associated funerary objects were present. Diagnostic artifacts found at the Dunkerson site (3CG67) indicate that these human remains were probably buried during the Late Woodland Period (A.D. 600-950) or Early Mississippi Period (A.D. 700-1000).

In 1970, human remains representing, at minimum, one individual were recovered from the Pierre Cache site (3CG78) in Craighead County, AR. No known individual was identified. No associated funerary objects were present. Diagnostic artifacts found at the Pierre Cache site (3CG78) indicate that these human remains were probably buried during the Archaic Period (9500-650 B.C.).

In 1979, human remains representing, at minimum, one individual were recovered from the Burns site (3CG79) in Craighead County, AR. No known individual was identified. No associated funerary objects were present. Diagnostic artifacts found at the Burns site (3CG79) indicate that these human remains were probably buried during the Woodland Period (650 B.C.-A.D. 950) or Mississippi Period (A.D. 950-541).

In 1978, human remains representing, at minimum, one individual were recovered from the Burris #2 site (3CG218) in Craighead County, AR. No known individual was identified. No associated funerary objects were present. Diagnostic artifacts found at the Burris #2 site (3CG218) indicate that these human remains were probably buried during the middle Mississippi Period (A.D. 1000-1350).

In 1971, human remains representing, at minimum, 12 individuals were recovered from site 3CG347 in Craighead County, AR. No known individuals were identified. No associated funerary objects were present. Diagnostic artifacts found at site 3CG347 indicate that these human remains were probably buried during the Late Archaic Period (3000-650 B.C.).

In 1974, human remains representing, at minimum, one individual were recovered from the Krebs Place site (3CG453) in Craighead County, AR. No known individual was identified. No associated funerary objects were present. Diagnostic artifacts found at the Krebs Place site (3CG453) indicate that these human remains were probably buried during the middle Mississippi Period (A.D. 1000-1350).

In 1978, human remains representing, at minimum, one individual were recovered from site 3CG688 in Craighead County, AR. No known individual was identified. No associated funerary objects were present. Diagnostic artifacts found at site 3CG688 indicate that these human remains were probably buried during the Late Woodland Period (A.D. 600-950) or Early Mississippi Period (A.D. 700-1000).

In 1982, human remains representing, at minimum, one individual were recovered from site 3CG739 in Craighead County, AR. No known individual was identified. No associated funerary objects were present. Diagnostic artifacts found at site 3CG739 indicate that these human remains were probably buried during the Late Woodland Period (A.D. 600-950) or Early Mississippi Period (A.D. 700-1000).

In 1984, human remains representing, at minimum, one individual were recovered from the Milner site (3CG902) in Craighead County, AR. No known individual was identified. No associated funerary objects were present. Diagnostic artifacts found at the Milner site (3CG902) indicate that these human remains were probably buried during the Prehistoric Period (11,650 B.C.-A.D. 1541).

At an unknown date, human remains representing, at minimum, one individual were recovered from site 3CG937 in Craighead County, AR. These human remains were donated to the Arkansas Archeological Survey in 1985. No known individual was identified. No associated funerary objects were present. Diagnostic artifacts found at site 3CG937 indicate that these human remains were probably buried during the Prehistoric Period (11,650 B.C-A.D. 1541).

In 1990, human remains representing, at minimum, one individual were recovered from site 3CG990 in Craighead County, AR. No known individual was identified. No associated funerary objects were present. Diagnostic artifacts found at site 3CG990 indicate that these human remains were probably buried during the Prehistoric Period (11,650 B.C.-A.D. 1541).

At an unknown date, human remains representing, at minimum, one individual were recovered from the Arnold site (3CW77) in Crawford County, AR. No known individual was identified. No associated funerary objects were present. Diagnostic artifacts found at the Arnold site (3CW77) indicate that these human remains were probably buried during the Woodland Period (650 B.C.-A.D. 950).

In 1968 and 1973, human remains representing, at minimum, one individual were recovered from the Bradley Place site (3CT7) in Crittenden County, AR. No known individual was identified. No associated funerary objects were present. Diagnostic artifacts found at the Bradley Place site (3CT7) indicate that these human remains were probably buried during the Mississippi Period (A.D. 950-1541).

In 1992, human remains representing, at minimum, one individual were recovered from the Richard's Bridge site (3CT11/22) in Crittenden County, AR. No known individual was identified. No associated funerary objects were present. Diagnostic artifacts found at the Richard's Bridge site (3CT11/22) indicate that these human remains were probably buried during the Mississippi Period (A.D. 950-1541).

In 2015, human remains representing, at minimum, five individuals were recovered from the Richard's Bridge site (3CT11/22) in Crittenden County, AR. No known individuals were identified. The 47 associated funerary objects include 2 ceramic sherds, 10 shell fragments, 2 shell ear plugs, 3 ceramic vessels, and 30 burned corn kernels (catalog # 2015-347). Diagnostic artifacts found at the Richard's Bridge site (3CT11/22) indicate that these human remains were probably buried during the `Mississippi Period (A.D. 950-1541).

In 1973, human remains representing, at minimum, one individual were recovered from the Barton Ranch site (3CT18) in Crittenden County, AR. No known individual was identified. No associated funerary objects were present. Diagnostic artifacts found at the Barton Ranch site (3CT18) indicate that these human remains were probably buried during the Mississippi Period (A.D. 950-1541).

At an unknown date, human remains representing, at minimum, one individual were recovered from the Ross site (3CT50) in Crittenden County, AR. These human remains were donated to the Arkansas Archeological Survey in 1973. No known individual was identified. No associated funerary objects were present. Diagnostic artifacts found at the Ross site (3CT50) indicate that these human remains were probably buried during the Mississippi Period (A.D. 950-1541).

At an unknown date, human remains representing, at minimum, one individual were recovered from the Vernon Paul site (3CS25) in Cross County, AR. These human remains were donated to the Arkansas Archeological Survey in 1991. No known individual was identified. No associated funerary objects were present. Diagnostic artifacts found at the Vernon Paul site (3CS25) indicate that these human remains were probably buried during the Parkin Phase (A.D. 1350-1550).

At an unknown date, human remains representing, at minimum, one individual were recovered from the Rose Mound site (3CS27) in Cross County, AR. These human remains were donated to the Arkansas Archeological Survey in 1991. No known individual was identified. No associated funerary objects were present. Diagnostic artifacts found at the Rose Mound site (3CS27) indicate that these human remains were probably buried during the Parkin Phase (A.D. 1350-1550).

In 1994 and 2009, human remains representing, at minimum, three individuals were recovered from the Parkin site (3CS29) in Cross County, AR. No known individuals were identified. No associated funerary objects were present. Diagnostic artifacts found at the Parkin site (3CS29) indicate that these human remains were probably buried during the Mississippi Period (A.D. 950-1541).

At an unknown date, human remains representing, at minimum, one individual were recovered from the Parkin site (3CS29) in Cross County, AR. In 2015, these human remains were discovered in the collections of the Arkansas Archeological Survey. No known individual was identified. No associated funerary objects were present. Diagnostic artifacts found at the Parkin site (3CS29) indicate that these human remains were probably buried during the Mississippi Period (A.D. 950-1541).

At an unknown date, human remains representing, at minimum, three individuals were recovered from the Wittsburg site (3CS138) in Cross County, AR. These human remains were donated to the Arkansas Archeological Survey in 1991. No known individuals were identified. No associated funerary objects were present. Physical anthropologists determined these human remains were from a prehistoric archeological context. Diagnostic artifacts found at the Wittsburg site (3CS138) indicate that these human remains were probably buried during the Prehistoric Period (11,650 B.C.-A.D. 1541).

At an unknown date, human remains representing, at minimum, one individual were recovered from site 3CS256 in Cross County, AR. In 2015, these human remains were discovered in the collections of the Arkansas Archeological Survey. No known individual was identified. No associated funerary objects were present. Diagnostic artifacts found at site 3CS256 indicate that these human remains were probably buried during the Prehistoric Period (11,650 B.C.-A.D. 1541).

At an unknown date, human remains representing, at minimum, three individuals were recovered from the White Oak Mouth/Trotter Place site (3FR4) in Franklin County, AR. These human remains were donated to the Arkansas Archeological Survey in 1983. No known individuals were identified. No associated funerary objects were present. Diagnostic artifacts found at the White Oak Mouth/Trotter Place site (3FR4) indicate that these human remains were probably buried during the Woodland Period (650 B.C.-A.D. 950).

At an unknown date, human remains representing, at minimum, one individual were recovered from site 3FR274 in Franklin County, AR. These human remains were donated to the Arkansas Archeological Survey in 1997. No known individual was identified. No associated funerary objects were present. Diagnostic artifacts found at site 3FR274 indicate that these human remains were probably buried during the Mississippi Period (A.D. 950-1541).

In 1997, human remains representing, at minimum, one individual were recovered from the Walnut Corners Church site (3GE6) in Greene County, AR. No known individual was identified. No associated funerary objects were present. Diagnostic artifacts found at the Walnut Corners Church site (3GE6) indicate that these human remains were probably buried during the Woodland Period (650 B.C.-A.D. 950) or Mississippi Period (A.D. 950-1541).

In 1974, human remains representing, at minimum, one individual were recovered from the Sloan/Dalton Field site (3GE94) in Greene County, AR. No known individual was identified. No associated funerary objects were present. Diagnostic artifacts found at the Sloan/Dalton Field site (3GE94) indicate that these human remains were probably buried during the Archaic period (9500-650 B.C.).

At an unknown date, human remains representing, at minimum, one individual were recovered from site 3JA1 in Jackson County, AR. These human remains were donated to the Arkansas Archeological Survey in 1972. No known individual was identified. No associated funerary objects were present. Diagnostic artifacts found at site 3JA1 indicate that these human remains were probably buried during the Prehistoric Period (11,650 B.C.-A.D. 1541).

In 1978, human remains representing, at minimum, one individual were recovered from site 3JA456 in Jackson County, AR. No known individual was identified. No associated funerary objects were present. Diagnostic artifacts found at site 3JA456 indicate that these human remains were probably buried during the Woodland Period (650 B.C.-A.D. 950).

In 1968, human remains representing, at minimum, three individuals were recovered from Webb Farm #1 site (3JE2) in Jefferson County, AR. No known individuals were identified. No associated funerary objects were present. Diagnostic artifacts found at the Webb Farm #1 site (3JE2) indicate that these human remains were probably buried during the Late Woodland Period (A.D. 600-950).

At an unknown date, human remains representing, at minimum, one individual were recovered from the Webb Farm #2 site (3JE6) in Jefferson County, AR. These human remains were donated to the Arkansas Archeological Survey in 1968. No known individual was identified. No associated funerary objects were present. Diagnostic artifacts found at the Webb Farm #2 site (3JE6) indicate that these human remains were probably buried during the Late Woodland Period (A.D. 600-950).

In 1979, human remains representing, at minimum, one individual were recovered from the Noble Lake site (3JE19) in Jefferson County, AR. No known individuals were identified. No associated funerary objects were present. Diagnostic artifacts found at the Noble Lake site (3JE19) indicate that these human remains were probably buried during the Mississippi Period (A.D. 950-1541).

At an unknown date, human remains representing, at minimum, one individual were recovered from the Walt #1 site (3JE45) in Jefferson County, AR. These remains were donated to the Arkansas Archeological Survey in 1993. No known individual was identified. No associated funerary objects were present. Diagnostic artifacts found at the Walt #1 site (3JE45) indicate that these human remains were probably buried during the Coles Creek Phase (A.D. 700-1000).

In 1968, human remains representing, at minimum, two individuals were recovered from the Greer site (3JE50) in Jefferson County, AR. No known individuals were identified. No associated funerary objects were present. Diagnostic artifacts found at the Greer site (3JE50) indicate that these human remains were probably buried during either the Late Woodland Period (A.D. 600-950) or Mississippi Period (A.D. 950-1541).

In 1968, human remains representing, at minimum, one individual were recovered from site 3JE62 in Jefferson County, AR. No known individual was identified. No associated funerary objects were present. Diagnostic artifacts found at site 3JE62 indicate that these human remains were probably buried during the Late Woodland Period (A.D. 600-950).

In 1972 and 1974, human remains representing, at minimum, one individual were recovered from site 3LW44 in Lawrence County, AR. No known individual was identified. No associated funerary objects were present. Diagnostic artifacts found at site 3LW44 indicate that these human remains were probably buried during the Middle Mississippi Period (A.D. 1000-1350).

In 2015, human remains representing, at minimum, two individuals were recovered from site 3LW809 in Lawrence County, AR. No known individuals were identified. No associated funerary objects were present. Diagnostic artifacts found at site 3LW809 indicate that these human remains were probably buried during the Prehistoric Period (11,650 B.C.-A.D. 1541).

In 1983, human remains representing, at minimum, one individual were recovered from the Barrett site (3LE3) in Lee County, AR. No known individual was identified. No associated funerary objects were present. Diagnostic artifacts found at the Barrett site (3LE3) indicate that these human remains were probably buried during the Mississippi Period (A.D. 950-1541).

At an unknown date, human remains representing, at minimum, one individual were recovered from the Soudan site (3LE5) in Lee County, AR. These human remains were donated to the Arkansas Archeological Survey in 1991. No known individual was identified. No associated funerary objects were present. Diagnostic artifacts found at the Soudan site (3LE5) indicate that these human remains were probably buried during the Middle Mississippi Period (A.D. 1000-1350).

In 1970, 1984, and 1995, human remains representing, at minimum, three individuals were recovered from the Soudan site (3LE5) in Lee County, AR. No known individuals were identified. No associated funerary objects were present. Diagnostic artifacts found at the Soudan site (3LE5) indicate that these human remains were probably buried during the Middle Mississippi Period (A.D. 1000-1350).

In 1988, human remains representing, at minimum, one individual were recovered from the Kent site (3LE8) in Lee County, AR. No known individual was identified. No associated funerary objects were present. Diagnostic artifacts found at the Kent site (3LE8) indicate that these human remains were probably buried during the Mississippi Period (A.D. 950-1541) or Kent Phase (A.D. 1350-1600).

In 1988 and 1989, human remains representing, at minimum, three individuals were recovered from the Clay Hill site (3LE11) in Lee County, AR. No known individuals were identified. No associated funerary objects were present. Diagnostic artifacts found at the Clay Hill site (3LE11) indicate that these human remains were probably buried during the Mississippi Period (A.D. 950-1541) or Kent Phase (A.D. 1350-1600).

At an unknown date, human remains representing, at minimum, one individual were recovered from the Clay Hill site (3LE11) in Lee County, AR. These human remains were donated to the Arkansas Archeological Survey in 1970. No known individual was identified. No associated funerary objects were present. Diagnostic artifacts found at the Clay Hill site (3LE11) indicate that these human remains were probably buried during the Mississippi Period (A.D. 900-1500) or Kent Phase (A.D. 1350-1600).

In 1980, human remains representing, at minimum, three individuals were recovered from the Starkley site (3LE17) in Lee County, AR. No known individuals were identified. No associated funerary objects were present. Diagnostic artifacts found at the Starkley site (3LE17) indicate that these human remains were probably buried during the Mississippi Period (A.D. 950-1541) or Kent Phase (A.D. 1350-1600).

In 1984, human remains representing, at minimum, one individual were recovered from the Conner site (3LE18) in Lee County, AR. No known individual was identified. No associated funerary objects were present. Diagnostic artifacts found at the Conner site (3LE18) indicate that these human remains were probably buried during the Baytown Period (A.D. 400-700) or Mississippi Period (A.D. 950-1541).

In 1972, human remains representing, at minimum, one individual were recovered from the Carnes site (3LE29) in Lee County, AR. No known individual was identified. No associated funerary objects were present. Diagnostic artifacts found at the Carnes site (3LE29) indicate that these human remains were probably buried during the Mississippi Period (A.D. 950-1541) or Kent Phase (A.D. 1350-1600).

In 1973, human remains representing, at minimum, one individual were recovered from the Parson site (3LE50) in Lee County, AR. No known individual was identified. No associated funerary objects were present. Diagnostic artifacts found at the Parson site (3LE50) indicate that these human remains were probably buried during the Mississippi Period (A.D. 950-1541).

In 1984, human remains representing, at minimum, one individual were recovered from the Troublesome Lake site (3LE128) in Lee County, AR. No known individual was identified. No associated funerary objects were present. Diagnostic artifacts found at the Troublesome Lake site (3LE128) indicate that these human remains were probably buried during the Baytown Period (A.D. 400-700) to Mississippi Period (A.D. 950-1541).

In 1988, human remains representing, at minimum, one individual were recovered from the Peters Church site (3LE130) in Lee County, AR. No known individual was identified. No associated funerary objects were present. Diagnostic artifacts found at the Peters Church site (3LE130) indicate that these human remains were probably buried during the Mississippi Period (A.D. 950-1541).

At an unknown date, human remains representing, at minimum, one individual were recovered from the Haynes Bluff site (3LE245) in Lee County, AR. These human remains were donated to the Arkansas Archeological Survey in 1987. No known individual was identified. No associated funerary objects were present. Diagnostic artifacts found at the Haynes Bluff site (3LE245) indicate that these human remains were probably buried during the Mississippi Period (A.D. 950-1541).

In 1994, human remains representing, at minimum, two individuals were recovered from site 3LE286 in Lee County, AR. No known individuals were identified. No associated funerary objects were present. Diagnostic artifacts found at site 3LE286 indicate that these human remains were probably buried during the Mississippi Period (A.D. 950-1541) or Kent Phase (A.D. 1350-1600).

In 2013, human remains representing, at minimum, one individual were excavated from the Toltec Mounds site (3LN42) in Lonoke County, AR. No known individual was identified. No associated funerary objects are present. Diagnostic artifacts found at the Toltec Mounds site (3LN42) indicate that these human remains were probably buried during the Plum Bayou Phase (A.D. 700-1000).

In 1994 and 1995, human remains representing, at minimum, five individuals were recovered from site 3LO12 in Logan County, AR. No known individuals were identified. No associated funerary objects were present. Diagnostic artifacts found at site 3LO12 indicate that these human remains were probably buried during the Mississippi Period (A.D. 950-1541).

At an unknown date, human remains representing, at minimum, one individual were recovered from the River Mountain Indian site (3LO31) in Logan County, AR. These human remains were donated to the Arkansas Archeological Survey in 1971. No known individual was identified. No associated funerary objects were present. Diagnostic artifacts found at the River Mountain Indian site (3LO31) indicate that these human remains were probably buried during the Prehistoric Period (11,650 B.C.-A.D. 1541).

In 2013, human remains representing, at minimum, one individual were recovered from the Toltec Mounds site (3LN42) in Lonoke County, AR. No known individual was identified. No associated funerary objects were present. Diagnostic artifacts found at the Toltec Mounds site (3LN42) indicate that these human remains were probably buried during the Plum Bayou Culture (A.D. 700-1000).

In 1973, human remains representing, at minimum, two individuals were recovered from the Upper Nodena site (3MS4) in Mississippi County, AR. No known individuals were identified. No associated funerary objects were present. Diagnostic artifacts found at the Upper Nodena site (3MS4) indicate that these human remains were probably buried during the Late Woodland (A.D. 600-950), Early Mississippi periods (A.D. 700-1000), or Nodena Phase (A.D. 1400-1650).

At an unknown date, human remains representing, at minimum, one individual were recovered from site 3MS25 in Mississippi County, AR. No known individual was identified. No associated funerary objects were present. Diagnostic artifacts found at site 3MS25 indicate that these human remains were probably buried during the Mississippi Period (A.D. 950-1541).

At an unknown date, human remains representing, at minimum, one individual were recovered from the Friend Levee site (3MS69) in Mississippi County, AR. These human remains were donated to the Arkansas Archeological Survey in 2009. No known individual was identified. No associated funerary objects were present. Diagnostic artifacts found at the Friend Levee site (3MS69) indicate that these human remains were probably buried during the Mississippi Period (A.D. 950-1541).

In 1980, human remains representing, at minimum, one individual were recovered from the Bradbury site (3MS100) in Mississippi County, AR. No known individual was identified. No associated funerary objects were present. Diagnostic artifacts found at the Bradbury site (3MS100) indicate that these human remains were probably buried during the Mississippi Period (A.D. 950-1541).

In 2009, human remains representing, at minimum, one individual were recovered from the Bradbury site (3MS100) in Mississippi County, AR. No known individual was identified. No associated funerary objects were present. Diagnostic artifacts found at the Bradbury site (3MS100) indicate that these human remains were probably buried during the Mississippi Period (A.D. 950-1541).

In 2005, human remains representing, at minimum, one individual were recovered from the Eaker site (3MS105) in Mississippi County, AR. No known individual was identified. No associated funerary objects were present. Diagnostic artifacts found at the Eaker site (3MS105) indicate that these human remains were probably buried during the Mississippi Period (A.D. 950-1541).

In 2006, human remains representing, at minimum, one individual were recovered from the Eaker site (3MS105) in Mississippi County, AR. No known individual was identified. No associated funerary objects were present. Diagnostic artifacts found at the Eaker site (3MS105) indicate that these human remains were probably buried during the Mississippi Period (A.D. 950-1541).

In 1980, human remains representing, at minimum, one individual were recovered from the Barfield's Landing site (3MS109) in Mississippi County, AR. No known individual was identified. No associated funerary objects were present. Diagnostic artifacts found at the Barfield's Landing site (3MS109) indicate that these human remains were probably buried during the Mississippi Period (A.D. 950-1541).

In 1974, human remains representing, at minimum, one individual were recovered from site 3MS111 in Mississippi County, AR. No known individual was identified. No associated funerary objects were present. Diagnostic artifacts found at site 3MS111 indicate that these human remains were probably buried during the Mississippi Period (A.D. 950-1541).

In 1988, human remains representing, at minimum, one individual were recovered from site 3MS441 in Mississippi County, AR. No known individual was identified. No associated funerary objects were present. Diagnostic artifacts found at site 3MS441 indicate that these human remains were probably buried during the Mississippi Period (A.D. 950-1541).

In 2001, human remains representing, at minimum, one individual were recovered from the Bo site (3MS631) in Mississippi County, AR. No known individual was identified. No associated funerary objects were present. Diagnostic artifacts found at the Bo site (3MS631) indicate that these human remains were probably buried during the Mississippi Period (A.D. 950-1541).

At an unknown date, human remains representing, at minimum, two individuals were recovered near Blytheville in Mississippi County, AR. These human remains were donated to the Arkansas Archeological Survey in 1998. No known individuals were identified. No associated funerary objects were present. Diagnostic artifacts found in Mississippi County, AR, indicate that these human remains were probably buried during the Prehistoric Period (11,650 B.C.-A.D. 1541).

In 1970, 1978, and 1990, human remains representing, at minimum, one individual were recovered from the Baytown site (3MO1) in Monroe County, AR. No known individual was identified. No associated funerary objects were present. Diagnostic artifacts found at the Baytown site (3MO1) indicate that these human remains were probably buried during the Baytown Period (A.D. 400-700).

At an unknown date, human remains representing, at minimum, one individual were recovered from the Webster's Camp site (3MO3) in Monroe County, AR. These human remains were donated to the Arkansas Archeological Survey in 1968. No known individual was identified. No associated funerary objects were present. Diagnostic artifacts found at the Webster's Camp site (3MO3) indicate that these human remains were probably buried during the Baytown Period (A.D. 400-700) or Mississippi Period (A.D. 950-1541).

In 1979, human remains representing, at minimum, one individual were recovered from the Green River site (3MO55) in Monroe County, AR. No known individual was identified. No associated funerary objects were present. Diagnostic artifacts found at the Green River site (3MO55) indicate that these human remains were probably buried during the Baytown Period (A.D. 400-700) or Mississippi Period (A.D. 950-1541).

At an unknown date, human remains representing, at minimum, one individual were recovered from the Walnut Ridge/Brinker Place site (3MO61) in Monroe County, AR. These human remains were donated to the Arkansas Archeological Survey in 1983. No known individual was identified. No associated funerary objects were present. Diagnostic artifacts found at the Walnut Ridge/Brinker Place site (3MO61) indicate that these human remains were probably buried during the Baytown Period (A.D. 400-700) or Mississippi Period (A.D. 950-1541).

At an unknown date, human remains representing, at minimum, three individuals were recovered from the Bank of Brinkley site (3MO72) in Monroe County, AR. These human remains were donated to the Arkansas Archeological Survey in 1998. No known individuals were identified. No associated funerary objects were present. Diagnostic artifacts found at the Bank of Brinkley site (3MO72) indicate that these human remains were probably buried during the Woodland Period (650 B.C.-A.D. 950).

In 1969, human remains representing, at minimum, one individual were recovered from the Dupree site (3PH1) in Phillips County, AR. No known individual was identified. No associated funerary objects were present. Diagnostic artifacts found at the Dupree site (3PH1) indicate that these human remains were probably buried during the Mississippi Period (A.D. 950-1541).

At an unknown date, human remains representing, at minimum, one individual were recovered from the Dupree site (3PH1) in Phillips County, AR. These human remains were donated to the Arkansas Archeological Survey in 1973. No known individual was identified. No associated funerary objects were present. Diagnostic artifacts found at the Dupree site (3PH1) indicate that these human remains were probably buried during the Mississippi Period (A.D. 950-1541).

In 1978, human remains representing, at minimum, three individuals were recovered from the Moore site (3PH7) in Phillips County, AR. No known individuals were identified. No associated funerary objects were present. Diagnostic artifacts found at the Moore site (3PH7) indicate that these human remains were probably buried during the Mississippi Period (A.D. 950-1541).

In 1977, human remains representing, at minimum, one individual were recovered from the Old Town site (3PH20) in Phillips County, AR. No known individual was identified. No associated funerary objects were present. Diagnostic artifacts found at the Old Town site (3PH20) indicate that these human remains were probably buried during the Mississippi Period (A.D. 950-1541).

At an unknown date, human remains representing, at minimum, one individual were recovered from the Shadden site (3PH39) in Phillips County, AR. These human remains were donated to the Arkansas Archeological Survey in 1990. No known individual was identified. No associated funerary objects were present. Diagnostic artifacts found at the Shadden site (3PH39) indicate that these human remains were probably buried during the Woodland Period (650 B.C.-A.D. 950).

At an unknown date, human remains representing, at minimum, one individual were recovered from the Eloise Toney site (3PH42) in Phillips County, AR. These human remains were donated to the Arkansas Archeological Survey in 1990. No known individual was identified. No associated funerary objects were present. Diagnostic artifacts found at the Eloise Toney site (3PH42) indicate that these human remains were probably buried during the Mississippi Period (A.D. 950-1541).

In 1969, human remains representing, at minimum, one individual were recovered at site 3PH45 in Phillips County, AR. No known individual was identified. No associated funerary objects were present. Diagnostic artifacts found at site 3PH45 indicate that these human remains were probably buried during the Baytown Period (A.D. 400-700).

At an unknown date, human remains representing, at minimum, one individual were recovered from the Old Town Lake site (3PH48) in Phillips County, AR. These human remains were donated to the Arkansas Archeological Survey in 1990. No known individual was identified. No associated funerary objects were present. Diagnostic artifacts found at the Old Town Lake site (3PH48) indicate that these human remains were probably buried during the Marksville Period (100 B.C.-A.D. 400).

In 1977, human remains representing, at minimum, one individual were recovered from the College site (3PH53) in Phillips County, AR. No known individual was identified. No associated funerary objects were present. Diagnostic artifacts found at the College site (3PH53) indicate that these human remains were probably buried during the Woodland Period (650 B.C.-A.D. 950).

In 1969, human remains representing, at minimum, one individual were recovered from the Montgomery #2 site (3PH60) in Phillips County, AR. No known individual was identified. No associated funerary objects were present. Diagnostic artifacts found at the Montgomery #2 site (3PH60) indicate that these human remains were probably buried during the Woodland Period (650 B.C.-A.D. 950).

In 1969, human remains representing, at minimum, one individual were recovered from the Chip Franklin site (3PH65) in Phillips County, AR. No known individual was identified. No associated funerary objects were present. Diagnostic artifacts found at the Chip Franklin site (3PH65) indicate that these human remains were probably buried during the Mississippi Period (A.D. 950-1541).

In 1972 and 1973, human remains representing, at minimum, one individual were recovered from the Martin site (3PH126) in Phillips County, AR. No known individual was identified. No associated funerary objects were present. Diagnostic artifacts found at the Martin site (3PH126) indicate that these human remains were probably buried during the Mississippi Period (A.D. 950-1541).

In 1977, human remains representing, at minimum, one individual were recovered from site 3PH153 in Phillips County, AR. No known individual was identified. No associated funerary objects were present. Diagnostic artifacts found at site 3PH153 indicate that these human remains were probably buried during the Mississippi Period (A.D. 950-1541).

In 2015, human remains representing, at minimum, one individual were recovered from the Potter's Field site (3PO2/23) in Poinsett County, AR. No known individual was identified. No associated funerary objects were present. Diagnostic artifacts found at the Potter's Field site (3PO2/23) indicate that these human remains were probably buried during the Prehistoric Period (11,650 B.C.-A.D. 1541).

In 1974 and 1980, human remains representing, at minimum, three individuals were recovered from the Miller site (3PO24) in Poinsett County, AR. No known individuals were identified. No associated funerary objects were present. Diagnostic artifacts found at the Miller site (3PO24) indicate that these human remains were probably buried during the Mississippi (A.D. 900-1541) or Parkin Phase (A.D. 1300-1600).

At an unknown date, human remains representing, at minimum, one individual were recovered from the Roby Cooper Place site (3PO40) in Poinsett County, AR. These human remains were donated to the Arkansas Archeological Survey in 1974. No known individual was identified. No associated funerary objects were present. Diagnostic artifacts found at the Roby Cooper Place site (3PO40) indicate that these human remains were probably buried during the Baytown Period (A.D. 400-700).

At an unknown date, human remains representing, at minimum, one individual were recovered from the Hubbard #2 site (3PO146) in Poinsett County, AR. These human remains were donated to the Arkansas Archeological Survey in 2013. No known individual was identified. No associated funerary objects were present. Diagnostic artifacts found at the Hubbard #2 site (3PO146) indicate that these human remains were probably buried during the Woodland Period (650 B.C.-A.D. 950).

At an unknown date, human remains representing, at minimum, one individual were recovered near Marked Tree in Poinsett County, AR. These human remains were donated to the Arkansas Archeological Survey at an unknown date. No known individual was identified. No associated funerary objects were present. Diagnostic artifacts found in Poinsett County, AR, indicate that these human remains were probably buried during the Prehistoric Period (11,650 B.C.-A.D. 1541).

In 1971, human remains representing, at minimum, 19 individuals were recovered from the Howell Farm site (3PP17) in Pope County, AR. No known individuals were identified. No associated funerary objects were present. Diagnostic artifacts recovered from the Howell Farm site (3PP17) indicate that these human remains were probably buried during the Woodland Period (650 B.C.-A.D. 950).

In 1972 and 1973, human remains representing, at minimum, one individual were recovered from the Fowler's Point/Mulberry Hill site (3PR21) in Prairie County, AR. No known individual was identified. No associated funerary objects were present. Diagnostic artifacts found at the Fowler's Point/Mulberry Hill site (3PR21) indicate that these human remains were probably buried during the Baytown Period (A.D. 400-700) or Mississippi Period (A.D. 950-1541).

At an unknown date, human remains representing, at minimum, two individuals were recovered from the Fowler's Point/Mulberry Hill site (3PR21) in Prairie County, AR. These human remains were donated to the Arkansas Archeological Survey in 1987. No known individuals were identified. No associated funerary objects were present. Diagnostic artifacts found at the Fowler's Point/Mulberry Hill site (3PR21) indicate that these human remains were probably buried during the Baytown Period (A.D. 400-700) or Mississippi Period (A.D. 950-1541).

In 1972 and 2011, human remains representing, at minimum, one individual were recovered from the Sanner-Ferguson site (3PR22) in Prairie County, AR. No known individual was identified. No associated funerary objects were present. Diagnostic artifacts found at the Sanner-Ferguson site (3PR22) indicate that these human remains were probably buried during the Mississippi Period (A.D. 950-1541).

In 1978, human remains representing, at minimum, one individual were recovered from the Bull Farm #1 site (3PR26) in Prairie County, AR. No known individual was identified. The one associated funerary object is one Winterville incised ceramic fragment (catalog # 78-1216-1). Diagnostic artifacts found at the Bull Farm #1 site (3PR26) indicate that these human remains were probably buried during the Mississippi Period (A.D. 950-1541).

At an unknown date, human remains representing, at minimum, one individual were recovered from the Honey Creek site (3PR28) in Prairie County, AR. These human remains were donated to the Arkansas Archeological Survey at an unknown date. No known individual was identified. No associated funerary objects were present. Diagnostic artifacts found in Prairie County, AR, indicate that these human remains were probably buried during the Prehistoric Period (11,650 B.C.-A.D. 1541).

At an unknown date, human remains representing, at minimum, one individual were recovered from the Rattlesnake Rest site (3PR48) in Prairie County, AR. These human remains were donated to the Arkansas Archeological Survey in 1983. No known individual was identified. No associated funerary objects were present. Diagnostic artifacts found at the Rattlesnake Rest site (3PR48) indicate that these human remains were probably buried during the Baytown Period (A.D. 400-700) or Mississippi Period (A.D. 950-1541).

At an unknown date, human remains representing, at minimum, one individual were recovered from the Plunkett C-9 site (3PR97) in Prairie County, AR. These human remains were donated to the Arkansas Archeological Survey in 1991. No known individual was identified. No associated funerary objects were present. Diagnostic artifacts found at the Plunkett C-9 site (3PR97) indicate that these human remains were probably buried during the Baytown Period (A.D. 400-700).

In 2008 and 2009, human remains representing, at minimum, 20 individuals were recovered from the Isgrig site (3PU15) in Pulaski County, AR. No known individuals were identified. The 45 associated funerary objects include 26 ceramic vessels, 15 arrow points, and 4 deer ulna awls. Diagnostic artifacts found at the Isgrig site (3PU15) indicate that these human remains were probably buried during the Mississippi Period (A.D. 950-1541).

In 1990, human remains representing, at minimum, 25 individuals were recovered from the Kuykendall Brake site (3PU111) in Pulaski County, AR. No known individuals were identified. No associated funerary objects were present. Diagnostic artifacts found at the Kuykendall Brake site (3PU111) indicate that these human remains were probably buried during the Menard Complex (A.D. 1500-1700).

In 1995, human remains representing, at minimum, one individual were recovered from the County Dairy Farm site (3PU163) in Pulaski County, AR. No known individual was identified. No associated funerary objects were present. Diagnostic artifacts found at the County Dairy Farm site (3PU163) indicate that these human remains were probably buried during the Late Woodland Period (A.D. 600-950).

At an unknown date, human remains representing, at minimum, two individuals were recovered from site 3PU473 in Pulaski County, AR. These human remains were sent to the Arkansas Archeological Survey from the state Medical Examiner at an unknown date. No known individuals were identified. No associated funerary objects were present. Diagnostic artifacts from site 3PU473 indicate that these human remains were probably buried during the Baytown Period (A.D. 400-700) or Mississippi Period (A.D. 950-1541).

In 2012, human remains representing, at minimum, one individual were recovered from the Grigsby site (3RA262) in Randolph County, AR. No known individual was identified. In accordance with Arkansas State Law, these human remains were reburied at the Grigsby site (3RA262) at an unknown date. The 1,866 associated funerary objects include 1,841 glass beads, 6 metal fragments, 1 metal kettle, 8 metal beads, 2 tinkling cones, 2 iron knives, 4 iron coils, 1 metal spoon, and 1 coil bracelet. These diagnostic artifacts indicate that the associated human remains were probably originally buried during the Protohistoric Period (A.D. 1541-1700).

At an unknown date, human remains representing, at minimum, one individual were recovered from the Big Eddy site (3SF9) in St. Francis County, AR. These human remains were donated to the Arkansas Archeological Survey in 1991. No known individual was identified. No associated funerary objects were present. Diagnostic artifacts found at the Big Eddy site (3SF9) indicate that these human remains were probably buried during the Mississippi Period (A.D. 950-1541).

At an unknown date, human remains representing, at minimum, one individual were recovered from the Big Eddy site (3SF9) in St. Francis County, AR. These human remains were donated to the Arkansas Archeological Survey in 2014. No known individual was identified. No associated funerary objects were present. Diagnostic artifacts found at the Big Eddy site (3SF9) indicate that these human remains were probably buried during the Mississippi Period (A.D. 950-1541).

At an unknown date, human remains representing, at minimum, two individuals were recovered from the Castile Landing site (3SF12) in St. Francis County, AR. These human remains were donated to the Arkansas Archeological Survey in 1991. No known individuals were identified. No associated funerary objects were present. Diagnostic artifacts found at the Castile Landing site (3SF12) indicate that these human remains were probably buried during the Mississippi Period (A.D. 950-1541).

At an unknown date, human remains representing, at minimum, seven individuals were recovered from the Manley site (3SF25) in St. Francis County, AR. These human remains were donated to the Arkansas Archeological Survey in 1991. No known individuals were identified. No associated funerary objects were present. Diagnostic artifacts found at the Manley site (3SF25) indicate that these remains were probably buried during the Prehistoric Period (11,650 B.C.-A.D. 1541).

In 1969, human remains representing, at minimum, seven individuals were recovered from the Soc site (3WH34) in White County, AR. No known individuals were identified. No associated funerary objects were present. Diagnostic artifacts found at the Soc site (3WH34) indicate that these human remains were probably buried during the Mississippi Period (A.D. 950-1541).

At an unknown date, human remains representing, at minimum, one individual were recovered from site 3WH73 in White County, AR. These human remains were donated to the Arkansas Archeological Survey in 1970. No known individual was identified. No associated funerary objects were present. Diagnostic artifacts at site 3WH73 indicate that these human remains were probably buried during the Prehistoric Period (11,650 B.C.-A.D. 1541).

In 1973, human remains representing, at minimum, one individual were recovered from the Glaze Creek Access site (3WH168) in White County, AR. No known individual was identified. No associated funerary objects were present. Diagnostic artifacts at the Glaze Creek Access site (3WH168) indicate that these human remains were probably buried during the Baytown Period (A.D. 400-700).

In 1989, human remains representing, at minimum, two individuals were recovered from site 3WH462 in White County, AR. No known individuals were identified. No associated funerary objects were present. Diagnostic artifacts at site 3WH462 indicate that these human remains were probably buried during the Woodland Period (650 B.C.-A.D. 950) or Mississippi Period (A.D. 950-1541).

In 1983, human remains representing, at minimum, one individual were recovered near Augusta in White County, AR. No known individual was identified. No associated funerary objects were present. Diagnostic artifacts found near Augusta in White County, AR, indicate that these human remains were probably buried during the Prehistoric Period (11,650 B.C.-A.D. 1541).

At an unknown date, human remains representing, at minimum, one individual were recovered from the Old Barn site (3WO239) in Woodruff County, AR. No known individual was identified. No associated funerary objects were present. Diagnostic artifacts found at the Old Barn site (3WO239) indicate that these human remains were probably buried during the Late Mississippi Period (A.D. 1350-1650).

In 1967, human remains representing, at minimum, one individual were recovered from the Delaware Creek site (3YE6) in Yell County, AR. No known individual was identified. No associated funerary objects were present. Diagnostic artifacts found at the Delaware Creek site (3YE6) indicate that these human remains were probably buried during the Prehistoric Period (11,650 B.C.-A.D. 1541).

At an unknown date, human remains representing, at minimum, one individual were recovered from the Bullock site (3YE20) in Yell County, AR. These human remains were donated to the Arkansas Archeological Survey in 1970. No known individual was identified. No associated funerary objects were present. Diagnostic artifacts found at the Bullock site (3YE20) indicate that these human remains were probably buried during the Prehistoric Period (11,650 B.C.-A.D. 1541).

In 1992, human remains representing, at minimum, one individual were recovered from the Carden Bottoms site (3YE25) in Yell County, AR. No known individual was identified. The 3 associated funerary objects include 3 tubular shell beads (92-380-51, -56). Diagnostic artifacts found at the Carden Bottoms site (3YE25) indicate that these human remains were probably buried during the Late Mississippi Period (A.D. 1350-1650).

In 1991 and 1992, human remains representing, at minimum, one individual were recovered from site 3YE347 in Yell County, AR. No known individual was identified. No associated funerary objects were present. Diagnostic artifacts found at site 3YE347 indicate that these human remains were probably buried during the Late Mississippi Period (A.D. 1350-1650).

At an unknown date, human remains representing, at minimum, one individual were recovered from the Cache River in Arkansas. These human remains were donated to the Arkansas Archeological Survey in 1991. No known individual was identified. No associated funerary objects were present. Diagnostic artifacts found along the Cache River indicate that these human remains were probably buried during the Prehistoric Period (11,650 B.C.-A.D. 1500).

At an unknown date, human remains representing, at minimum, four individuals were recovered from an unknown location in Northeast Arkansas. These human remains were donated to the Arkansas Archeological Survey in 2015. No known individuals were identified. No associated funerary objects were present. Diagnostic artifacts found in Northeast Arkansas indicate that these human remains were probably buried during the Prehistoric Period (11,650 B.C.-A.D. 1500).

At an unknown date, human remains representing, at minimum, one individual were recovered from Willshand Farms in Northeast Arkansas. These human remains were donated to the Arkansas Archeological Survey in 1991. No known individual was identified. No associated funerary objects were present. Diagnostic artifacts found at Willshand Farms indicate that these human remains were probably buried during the Prehistoric Period (11,650 B.C.-A.D. 1541).

At an unknown date, human remains representing, at minimum, one individual were recovered from the Atkins Bottoms site in Pope County, AR. These human remains were donated to the Arkansas Archeological Survey in 2015. No known individual was identified. No associated funerary objects were present. Diagnostic artifacts found at the Atkins Bottoms site indicate that these human remains were probably buried during the Prehistoric Period (11,650 B.C.-A.D. 1500).

At an unknown date, human remains representing, at minimum, one individual were recovered from Memphis, Crittenden County, AR. These human remains were donated to the Arkansas Archeological Survey in 1994. No known individual was identified. No associated funerary objects were present. Diagnostic artifacts found in the Memphis, AR, vicinity indicate that these human remains were probably buried during the Prehistoric Period (11,650 B.C.-A.D. 1541).

At an unknown date, human remains representing, at minimum, one individual were recovered from an unknown location in Northeast Arkansas. These human remains were donated to the Arkansas Archeological Survey in 1973. No known individual was identified. No associated funerary objects were present. Diagnostic artifacts found in Northeast Arkansas indicate that these human remains were probably buried during the Prehistoric Period (11,650 B.C.-A.D. 1541).

At an unknown date, human remains representing, at minimum, one individual were recovered from an unknown location in Northeast Arkansas. These human remains were donated to the Arkansas Archeological Survey in 1968. No known individual was identified. No associated funerary objects were present. Diagnostic artifacts found in Northeast Arkansas indicate that these human remains were probably buried during the Prehistoric Period (11,650 B.C.-A.D. 1541).

At an unknown date, human remains representing, at minimum, one individual were recovered from an unknown location in White County, AR, by the State Medical Examiner. These human remains were determined to be of Native American descent and were transferred to the Arkansas Archeological Survey at an unknown date. No known individual was identified. No associated funerary objects were present. Diagnostic artifacts found in White County, AR, indicate that these human remains were probably buried during the Prehistoric Period (11,650 B.C.-A.D. 1541).

At an unknown date, human remains representing, at minimum, one individual were recovered from an unknown location in St. Francis County, AR, by the State Medical Examiner. These human remains were determined to be of Native American descent and were transferred to the Arkansas Archeological Survey at an unknown date. No known individual was identified. No associated funerary objects were present. Diagnostic artifacts found in St. Francis County, AR, indicate that these human remains were probably buried during the Prehistoric Period (11,650 B.C.-A.D. 1541).

At an unknown date, human remains representing, at minimum, one individual were recovered from an unknown location in Mississippi County, AR, by the State Medical Examiner. These human remains were determined to be of Native American descent and were transferred to the Arkansas Archeological Survey at an unknown date. No known individual was identified. No associated funerary objects were present. Diagnostic artifacts found in Mississippi County, AR, indicate that these human remains were probably buried during the Prehistoric Period (11,650 B.C.-A.D. 1541).

This notice includes a variety of terms commonly used in discussions of Arkansas archeology and the historical trajectories that gave rise to specific Native American communities identified in the historical record. Based on the archeological context for these sites and what is presently known about the peoples who pre-date the historic Quapaw and occupied the sites listed in this notice, the Arkansas Archeological Survey has determined the human remains listed in this notice are culturally affiliated with The Quapaw Tribe of Indians.

Determinations Made by the Arkansas Archeological Survey

Officials of the Arkansas Archeological Survey have determined that:

• Pursuant to 25 U.S.C. 3001(9), the human remains described in this notice represent the physical remains of 276 individuals of Native American ancestry.

• Pursuant to 25 U.S.C. 3001(3)(A), the 1,964 objects described in this notice are reasonably believed to have been placed with or near individual human remains at the time of death or later as part of the death rite or ceremony.

• Pursuant to 25 U.S.C. 3001(2), there is a relationship of shared group identity that can be reasonably traced between the Native American human remains and associated funerary objects and The Quapaw Tribe of Indians.

Additional Requestors and Disposition

Lineal descendants or representatives of any Indian tribe or Native Hawaiian organization not identified in this notice that wish to request transfer of control of these human remains and associated funerary objects should submit a written request with information in support of the request to Dr. George Sabo, Director, Arkansas Archeological Survey, 2475 North Hatch Avenue, Fayetteville, AR 72704, telephone (479) 575-3556, by March 27, 2017. After that date, if no additional requestors have come forward, transfer of control of the human remains to and associated funerary objects to The Quapaw Tribe of Indians may proceed.

The Arkansas Archeological Survey is responsible for notifying The Quapaw Tribe of Indians that this notice has been published.

Dated: January 27, 2017.
Melanie O'Brien,
Manager, National NAGPRA Program.

[FR Doc. 2017-03617 Filed 2-23-17; 8:45 am]

BILLING CODE 4312-52-P